DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of one or more persons that have been removed from the SDN List. Their property and interests in property are no longer blocked, and U.S. persons are no longer generally prohibited from engaging in transactions with them.

DATES: See SUPPLEMENTARY INFORMATION section.

FOR FURTHER INFORMATION CONTACT:

OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The SDN List and additional information concerning OFAC sanctions programs are available on OFAC's website (https://www.treasury.gov/ofac).

Notice of OFAC Actions

A. On July 3, 2019, OFAC determined that the property and interests in property subject to U.S. jurisdiction of the following person are blocked under the relevant sanctions authority listed below.

Entity

1. CUBAMETALES (a.k.a. EMPRESA CUBANA EXPORTADORA E IMPORTADORA DE METALES, COMBUSTIBLES Y LUBRICANTES; a.k.a. EMPRESA CUBANA IMPORTADORA DE COMBUSTIBLES Y LUBRICANTES; a.k.a. EMPRESA CUBANA IMPORTADORA Y EXPORTADORA DE COMBUSTIBLES Y LUBRICANTES), Street 30, Number 512 between 5th and 7th, Miramar, Havana, Playa, Cuba; Calzada de Infanta No. 16, Havana, Cuba [VENEZUELA-EO13850].

Designated pursuant to section 1(a)(i) of Executive Order 13850 (E.O. 13850) of November 1, 2018, “Blocking Property of Additional Persons Contributing to the Situation in Venezuela,” as amended by Executive Order 13857, “Taking Additional Steps to Address the National Emergency with Respect to Venezuela,” of January 25, 2019, for operating in the oil sector of the Venezuelan economy.

B. OFAC previously determined on April 12, 2019, that the persons listed below met one or more of the criteria under E.O. 13850. On July 3, 2019, OFAC determined that circumstances no longer warrant the inclusion of the following persons on the SDN List under this authority. These persons are no longer subject to the blocking provisions of Section 1(a) of E.O. 13850.

Entity

1. PB TANKERS S.P.A. (a.k.a. PB TANKERS SPA), Via Principe di Belmonte 55, Palermo PA 90139, Italy; Via Jacopo Peri 1, Rome RM 00198, Italy; website www.pbtankers.com; Email Address info@pbtankers.com; Identification Number IMO 5161787 [VENEZUELA-EO13850].

Vessels

1. ALBA MARINA Floating Storage Tanker Italy flag; Vessel Registration Identification IMO 9151838 (vessel) [VENEZUELA-EO13850] (Linked To: PB TANKERS S.P.A.).

2. GOLD POINT Chemical/Oil Tanker Malta flag; Vessel Registration Identification IMO 9506693 (vessel) [VENEZUELA-EO13850] (Linked To: PB TANKERS S.P.A.).

3. ICE POINT Chemical/Oil Tanker Italy flag; Vessel Registration Identification IMO 9379337 (vessel) [VENEZUELA-EO13850] (Linked To: PB TANKERS S.P.A.).

4. INDIAN POINT Chemical/Oil Tanker Malta flag; Vessel Registration Identification IMO 9379325 (vessel) [VENEZUELA-EO13850] (Linked To: PB TANKERS S.P.A.).

5. IRON POINT Chemical/Oil Tanker Malta flag; Vessel Registration Identification IMO 9388209 (vessel) [VENEZUELA-EO13850] (Linked To: PB TANKERS S.P.A.).

6. SILVER POINT Chemical/Oil Tanker Malta flag; Vessel Registration Identification IMO 9510462 (vessel) [VENEZUELA-EO13850] (Linked To: PB TANKERS S.P.A.).

Dated: July 9, 2019.
Andrea Gacki,
Director, Office of Foreign Assets Control.

[FR Doc. 2019-14917 Filed 7-12-19; 8:45 am]

BILLING CODE 4810-AL-P